CONSUMER PRODUCT SAFETY COMMISSION

Sunshine Act Meetings

Federal Register Citation of Previous Announcement: Vol. 77, No. 72, Friday, April 13, 2012, page 22290.

Announced Time and Date of Meeting: Wednesday, April 18, 2012, 10 a.m.-11 a.m.

Meeting Canceled: For a recorded message containing the latest agenda information, call (301) 504-7948.

CONTACT PERSON FOR ADDITIONAL INFORMATION: Todd A. Stevenson, Office of the Secretary, 4330 East West Highway, Bethesda, MD 20814 (301) 504-7923.

Dated: April 18, 2012.
Todd A. Stevenson,
Secretary.

[FR Doc. 2012-9666 Filed 4-18-12; 11:15 am]

BILLING CODE 6355-01-P